DEPARTMENT OF HOMELAND SECURITY

Coast Guard

[USCG-2003-16575]

Protection of Migratory Birds; Memorandum of Understanding

AGENCY: Coast Guard, DHS.

ACTION: Notice of availability.

SUMMARY: As required by Executive Order 13186, the Coast Guard gives notice that it has entered into a Memorandum of Understanding (MOU) with the U.S. Fish and Wildlife Service to promote the conservation of migratory bird populations in the context of the Rescue 21 Program on May 22, 2003. The MOU obligates the Coast Guard to consider its actions that might have substantial adverse impact on migratory birds and it requires the Coast Guard to incorporate certain specific concerns for migratory birds into its day-to-day decision-making.

DATES: The memorandum of understanding was signed by the Coast Guard on May 22, 2003.

ADDRESSES: A copy of the Memorandum of Understanding and Executive Order 13186 are available in the docket for this notice, USCG-2003-16575, in the Docket Management Facility, U.S. Department of Transportation, Room PL-401, 400 Seventh Street SW., Washington, DC 20590-0001, and online at http://dms.dot.gov.

FOR FURTHER INFORMATION CONTACT: If you have questions on this notice, call LT Curtis Borland, Office of Environmental Law, Coast Guard, telephone (202) 267-6000. If you have questions about viewing material in the docket, call Andrea M. Jenkins, Program Manager, Docket Operations, telephone (202) 366-0271.

SUPPLEMENTARY INFORMATION: A copy of Executive Order 13186 of January 10, 2001, Responsibilities of Federal Agencies to Protect Migratory Birds, and the Memorandum of Understanding the Coast Guard has developed and implemented with the Fish and Wildlife Service of the Department of Interior in the context of the Rescue 21 Program in response to this Order are available in the docket where indicated under ADDRESSES.

Rescue 21 is the name of the Coast Guard program to modernize the current National Distress System (NDS) which includes installing state-of-the-art, dual mode VHF/UHF telecommunications technology and deploying it at either existing NDS antenna tower sites, leased space on existing commercial tower sites, or new antenna tower sites. The NDS is the nation's maritime search and rescue “911” system and forms the backbone of the Coast Guard's Short Range Communication System. The NDS incorporates the use of very high frequency-frequency modulation (VHF-FM) radios to provide two-way voice communications coverage for the majority of USCG missions in coastal areas and navigable waterways where commercial and recreational traffic exists. The current NDS system is outdated and suffers from technological obsolesce. The system was intended to provide coverage extending out approximately 20 nautical miles from the shore of the United States. Currently, there are more than 65 verified communications gaps and numerous localized coverage deficiencies.

Rescue 21 is an advanced search and rescue communications system that helps the Coast Guard to more effectively locate and assist boaters in distress. Rescue 21 will greatly improve the Coast Guard's ability to detect and locate the source of distress calls, eliminate known radio coverage gaps, and enhance Coast Guard command and control capabilities across all other missions, such as homeland security, environmental protection and law enforcement. Rescue 21 is designed to save lives in the 21st century.

Dated: December 10, 2003.
Erroll Brown,
Rear Admiral, U.S. Coast Guard, Assistant Commandant for Systems.

[FR Doc. 04-591 Filed 1-12-04; 8:45 am]

BILLING CODE 4910-15-P